FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011885-002.

Title: CMA CGM/MSC Reciprocal Space Charter, Sailing and Cooperative Working Agreement.

Parties: CMA CGM S.A. and Mediterranean Shipping Company S.A.

Filing Party: Draughn Arbona, Esq.; Associate Counsel & Environmental Officer; CMA CGM (America) LLC; 5701 Lake Wright Drive; Norfolk, VA 23502.

Synopsis: The amendment increases both the number of vessels and vessel capacity under the Agreement, and provides that the parties will no longer operate a joint vessel in the Agreement trade.

Agreement No.: 012032-007.

Title: CMA CGM/MSC/Maersk Line North and Central China-US Pacific Coast Two-Loop Space Charter, Sailing and Cooperative Working Agreement.

Parties: A.P. Moller-Maersk A/S, CMA CGM S.A., and Mediterranean Shipping Company S.A.

Filing Party: Wayne R. Rohde, Esq.; Cozen O'Connor; 1627 I Street, NW., Suite 1100; Washington, DC 20006.

Synopsis: The amendment would add a third vessel loop to the Agreement, revise the vessel provisions and allocations on the two existing loops, add provisions on the schedule reliability, and revise the duration of the Agreement. It also restates the Agreement.

By Order of the Federal Maritime Commission.
Dated: March 4, 2011.
Rachel E. Dickon,
Assistant Secretary.

[FR Doc. 2011-5368 Filed 3-8-11; 8:45 am]

BILLING CODE 6730-01-P